DEPARTMENT OF COMMERCE

National Oceanic and Atmospheric Administration

50 CFR Part 665

[Docket No. 090218199-91091-01]

RIN 0648-AX38

Fisheries in the Western Pacific; Pelagic Fisheries; Vessel Identification Requirements

AGENCY: National Marine Fisheries Service (NMFS), National Oceanic and Atmospheric Administration (NOAA), Commerce.

ACTION: Proposed rule; request for comments.

SUMMARY: NMFS proposes to revise identification requirements for U.S. vessels that fish for pelagic management unit species on the high seas of the central and western Pacific. The new measures would require vessels to display their International Telecommunication Union Radio Call Sign (IRCS). If an IRCS has not been assigned to the vessel, the vessel would be required to display its official number, preceded by the characters “USA ”. The intent of this proposed rule is to make existing Federal vessel identification requirements conform with other regulations being proposed to implement international requirements.

DATES: Comments on the proposed rule must be received by August 3, 2009.

ADDRESSES: Comments on this proposed rule, identified by 0648-AX38, may be sent to either of the following addresses:

• Electronic Submission: Submit all electronic public comments via the Federal e-Rulemaking Portal www.regulations.gov; or

• Mail: William L. Robinson, Regional Administrator, NMFS, Pacific Islands Region (PIR), 1601 Kapiolani Blvd., Suite 1110, Honolulu, HI 96814-4700.

Instructions: All comments received are a part of the public record and will generally be posted to www.regulations.gov without change. All personal identifying information (e.g., name, address, etc.) submitted voluntarily by the sender may be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

The Western Pacific Fishery Management Council (Council) prepared a regulatory amendment that contains background information on the issue, analyses of biological and economic impacts, and proposed changes to the regulations. Copies of the regulatory amendment are available from www.regulations.gov, and from the Council, 1164 Bishop St., Suite 1400, Honolulu, HI 96813, tel 808-522-8220, fax 808-522-8226, www.wpcouncil.org.

Written comments regarding the burden-hour estimates or other aspects of the collection-of-information requirements contained in this proposed rule may be submitted to William L. Robinson (see ADDRESSES) and by e-mail to David_Rostker@omb.eop.gov, or fax to 202-395-7285.

FOR FURTHER INFORMATION CONTACT: Jarad Makaiau, Sustainable Fisheries, NMFS PIR, 808-944-2108.

SUPPLEMENTARY INFORMATION: This Federal Register document is also accessible at www.gpoaccess.gov/fr/.

The Commission for the Conservation and Management of Highly Migratory Fish Stocks in the Western and Central Pacific Ocean (WCPFC) was established under the Convention on the Conservation and Management of Highly Migratory Fish Stocks in the Western and Central Pacific Ocean (Convention). The Convention's objective is to ensure, through effective management, the long-term conservation and sustainable use of highly migratory fish stocks in the western and central Pacific Ocean, including measures to manage and conserve tunas and to minimize impacts on protected resources, such as sea turtles and seabirds. The Convention Area includes waters around Hawaii, American Samoa, Guam, the Northern Marianas Islands, and U.S. Pacific remote island areas. Thus, it encompasses the operational areas of U.S. purse seine, pelagic longline, and troll and handline fisheries, as well as local pelagic fisheries.

Under the Convention, vessels that are authorized to fish on the high seas in the Convention Area are required to be identified in accordance with the Standard Specifications for the Marking and Identification of Fishing Vessels of the Food and Agriculture Organization of the United Nations. NMFS is in the process of implementing those standards in new requirements for U.S. fishing vessels under the authority of the Western and Central Pacific Fisheries Convention Implementation Act (WCPFCIA, Public Law 109 479, Sec 501, et seq., and codified at 16 U.S.C. 6901 et seq.). On May 22, 2009, NMFS published a proposed rule in the Federal Register (74 FR 23965), seeking public comment on pending vessel identification requirements. Specifically, U.S. vessels used for commercial fishing for pelagic management unit species (i.e., highly migratory species) on the high seas with a NMFS-issued Western and Central Pacific Fisheries Commission Area Endorsement would be required to display its IRCS on the port and starboard sides of the hull or superstructure and deck surface. If an IRCS has not been assigned, the vessel must display its official number (i.e., USCG documentation number or other registration number) preceded by the characters “USA” and a hyphen (i.e., “USA-”). Only these markings would be allowed on the hull or superstructure, apart from the vessel's name and hailing port.

This proposed rule would be consistent with the proposed requirements under the WCPFCIA by revising existing western Pacific vessel identification regulations at Title 50, Code of Federal Regulations (50 CFR 665.16). United States vessels that are issued a permit under 50 CFR 665.21, i.e., longline, troll & handline, and squid jig vessels, and that fish for pelagic management unit species highly migratory species) in the high seas of the Convention Area would be required to display vessel markings as described above. Vessels that fish for pelagic species only within the U.S. Exclusive Economic Zone (EEZ) or on the high seas outside the Convention Area would have the option to be marked pursuant to the vessel identification requirements being proposed under the WCPFCIA, or maintain markings pursuant to existing vessel identification requirements. The proposed rule would modify only the manner in which federally-permitted pelagic fishing vessels are marked with their official numbers, and does not modify vessel operations or other aspects of the pelagic fisheries.

To be considered, comments on this proposed rule must be received by August 3, 2009, not postmarked or otherwise transmitted by that date.

Classification

Pursuant to section 304(b)(1)(A) of the Magnuson-Stevens Act, the NMFS Assistant Administrator has determined that this proposed rule is consistent with the vessel identification regulatory amendment, provisions of the Magnuson-Stevens Act, and other applicable law, subject to further consideration after public comment.

This proposed rule has been determined to be not significant for purposes of Executive Order 12866.

NMFS analyzed this proposed rule under the National Environmental Policy Act, 42 U.S.C. 4321 et seq., and NOAA Administrative Order 216-6, and concluded that there are no factors that would limit the use of a categorical exclusion under sections 5.05 and 6.03.c.3.(i) of that order. Therefore, this proposed rule is categorically excluded from further environmental consideration because the proposed actions are administrative in nature and do not have the potential to individually or cumulatively pose significant impacts to the quality of the human environment.

Certification of Finding of No Significant Impact on Substantial Number of Small Entities

The Chief Council for Regulation of the Department of Commerce certified to the Chief Council for Advocacy of the Small Business Administration that this proposed rule, if adopted, would not have a significant economic impact on a substantial number of small entities.

The Council and NMFS are proposing to revise western Pacific vessel identification regulations by requiring U.S. vessels that fish for pelagic species on the high seas of the western and central Pacific to be marked with the vessel's IRCS. The revisions will also provide that if an IRCS has not been assigned to the vessel, the marking will consist of the vessel's official number, preceded by the characters “USA-.” Vessels that fish for pelagic species only within the EEZ or on the high seas outside the Western and Central Pacific Fisheries Convention Area would have the option to either apply the high seas markings or maintain markings pursuant to existing requirements.

The intent of the proposed action is to bring the existing vessel identification requirements at 50 CFR 665.16 into conformity with international vessel identification requirements agreed to by the WCPFC, as they would be applied in a separate proposed action, for U.S. vessels fishing for pelagic species on the high seas in the Convention Area. The United States, as a Contracting Party to the Convention, will soon be implementing the vessel identification requirements under the Convention. This action will result in a consistent set of identification requirements applicable to United States vessels fishing in the EEZ and on the high seas within the Convention Area. The proposed rule affects only the manner in which Federally-permitted fishing vessels are marked with their official number, and does not modify vessel operations or other aspects of the fishery.

A description of the action, why it is being considered, and the legal basis for this action are contained in the preamble to this proposed rule. All vessels having the potential to participate in this fishery are considered to be small entities under the current Small Business Administration definition of small fish-harvesting businesses (gross receipts not in excess of $4 million).

There are up to 230 longline, pole-and-line, and troll and handline vessels that could be affected by this rulemaking. The estimated one-time cost for the required marking for each of 230 vessels would be up to $100. Estimated 2006 average gross revenues per vessel for the Hawaii- and American Samoa-based longline fisheries were approximately $300,000. Therefore, the cost of vessel marking for those vessels represents far less than one percent of gross revenues per vessel. The remaining affected vessels, including other longline, pole-and-line, and troll and handline vessels, would most likely have a higher cost-to-gross revenue percentage. However, it is unlikely that any of the percentages would exceed three percent (which would translate to $3,300 in annual revenues).

This proposed action contains no fishery management controls that affect the operations of the fishery, other than vessel identification. Thus, significant impacts to the profitability of a substantial number of small entities are not anticipated. This rule does not duplicate, overlap, or conflict with other Federal rules. There are no disproportionate economic impacts from this rule based on home port, gear type, or relative vessel size.

Pursuant to section 605(b) of the Regulatory Flexibility Act, 5 U.S.C. § 605(b), NMFS has determined that this rule will not have a significant economic impact on a substantial number of small entities based on the pre-existing status of pelagic fisheries of the central and western Pacific.

As a result, an initial regulatory flexibility analysis is not required and none has been prepared.

This proposed rule contains a collection-of-information requirement subject to the Paperwork Reduction Act (PRA), and which has been approved by OMB under control number 0648-0360. The one-time public reporting burden for vessel identification requirements is estimated at 45 minutes and $100 in supplies per vessel. This includes the time for reviewing instructions, searching existing data sources, gathering and maintaining the data needed, and completing and reviewing the collection of information. Send comments regarding this burden estimate, or any other aspect of this data collection, including suggestions for reducing the burden, to William L. Robinson (see ADDRESSES) and by e-mail to David_Rostker@omb.eop.gov, or fax to 202-395-7285.

Notwithstanding any other provision of the law, no person is required to respond to, and no person shall be subject to penalty for failure to comply with, a collection of information subject to the requirements of the PRA, unless that collection of information displays a currently valid OMB Control Number.

List of Subjects in 50 CFR Part 665

Fisheries, Fishing, Reporting and recordkeeping requirements, Vessel identification, Western and central Pacific.

Dated: July 13, 2009.
Samuel D. Rauch III,
Deputy Assistant Administrator for Regulatory Programs, National Marine Fisheries Service.

For the reasons set out in the preamble, 50 CFR part 665 is proposed to be amended as follows:

PART 665—FISHERIES IN THE WESTERN PACIFIC

1. The authority citation for part 665 continues to read as follows:

Authority: 16 U.S.C. 1801 et seq.

2. In § 665.16, revise paragraphs (a) and (b) to read as follows:

§ 665.16 Vessel identification.

(a) Applicability. Each fishing vessel subject to this part, except those identified in paragraph (e) of this section, must be marked for identification purposes, as follows:

(1) A vessel that is registered for use with a valid permit issued under § 665.21 and used to fish on the high seas within the Convention Area as defined in § 300.211 of this title must be marked in accordance with the requirements at §§ 300.14 and 300.217 of this title.

(2) A vessel that is registered for use with a valid permit issued under § 665.21 of this part and not used to fish on the high seas within the Convention Area must be marked in accordance with either:

(i) Sections 300.14 and 300.217 of this title, or

(ii) Paragraph (b) of this section.

(3) A vessel that is registered for use with a valid permit issued under §§ 665.41, 665.61, 665.81, or 665.602 of this part must be marked in accordance with paragraph (b) of this section.

(b) Identification. Each vessel subject to this section must be marked as follows:

(1) The vessel's official number must be affixed to the port and starboard sides of the deckhouse or hull, and on an appropriate weather deck, so as to be visible from enforcement vessels and aircraft. Marking must be legible and of a color that contrasts with the background.

(2) For fishing and receiving vessels of 65 ft (19.8 m) LOA or longer, the official number must be displayed in block Arabic numerals at least 18 inches (45.7 cm) in height, except that vessels subject to § 665.81 that are 65 ft (19.8 m) LOA or longer must be marked in block Arabic numerals at least 14 inches (35.6 cm) in height.

(3) For all other vessels, the official number must be displayed in block Arabic numerals at least 10 inches (25.4 cm) in height.

[FR Doc. E9-17073 Filed 7-16-09; 8:45 am]

BILLING CODE 3510-22-S